FEDERAL COMMUNICATIONS COMMISSION

47 CFR Part 73

[DA 04-609; MB Docket No. 03-192; RM-10763]

Radio Broadcasting Services; Brazil and Spencer, IN

AGENCY: Federal Communications Commission.

ACTION: Final rule.

SUMMARY: In response to a Notice of Proposed Rulemaking, 68 FR 56810 (October 2, 2003), this document grants a petition for rulemaking filed jointly by Crossroads Investments, Inc., licensee of Station WSDM-FM, Channel 249A, Brazil, Indiana, and Mid-America Radio of Indiana, Inc., licensee of Station WSKT(FM), Channel 224A, Spencer, Indiana. Channel 224A is substituted for Channel 249A at Brazil and the license for Station WSDM-FM is modified accordingly, and Channel 249A is substituted for Channel 224A at Spencer and the license of Station WSKT(FM) is modified accordingly. Channel 249A is allotted to Spencer in compliance with the Commission's minimum distance separation requirements with a site restriction of 9.5 kilometers (5.9 miles) west of the community at Station WSKT(FM)'s requested site. The coordinates for Channel 249A at Spencer are 39-15-18 NL and 86-51-51 WL. Channel 224A allotted to Brazil with a site restriction of 1.8 kilometers (1.1 miles) southwest of the community at Station WSDM-FM's requested site. The coordinates for Channel 224A at Brazil are 39-30-43 NL and 87-08-19 WL.

DATES: Effective April 26, 2004.

FOR FURTHER INFORMATION CONTACT: Victoria M. McCauley, Media Bureau, (202) 418-2180.

SUPPLEMENTARY INFORMATION: This is a synopsis of the Commission's Report and Order, MB Docket No. 03-192, adopted March 10, 2004, and released March 12, 2004. The full text of this Commission decision is available for inspection and copying during normal business hours in the FCC Reference Center (Room 239), 445 12th Street, SW., Washington, DC. This document may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334, and 336.

§ 73.202 [Amended]

2. Section 73.202(b), the Table of FM Allotments under Indiana, is amended by removing Channel 249A and adding Channel 224A at Brazil and by removing Channel 224A and adding Channel 249A at Spencer.

Federal Communications Commission.
John A. Karousos,
Assistant Chief, Audio Division, Media Bureau.

[FR Doc. 04-7101 Filed 3-29-04; 8:45 am]

BILLING CODE 6712-01-P